DEPARTMENT OF COMMERCE

International Trade Administration

[A-580-807]

Polyethylene Terephthalate Film, Sheet, and Strip From the Republic of Korea: Initiation and Preliminary Results of Antidumping Duty Changed Circumstances Review

AGENCY: Import Administration, International Trade Administration, Department of Commerce.

SUMMARY: In response to a request for an expedited changed circumstances review from Toray Advanced Materials Korea, Inc. (TAMK), the Department of Commerce (the Department) is initiating a changed circumstances review of the antidumping duty order on polyethylene terephthalate film, sheet and strip (PET film) from the Republic of Korea (Korea) pursuant to section 751(b) of the Tariff Act of 1930, as amended (the Act), and 19 CFR 351.216 and 351.221(c)(3). We have preliminarily concluded TAMK is the successor-in-interest to Toray Saehan, Inc. (Toray Saehan) and, as a result, should be accorded the same treatment previously given to Toray Saehan with respect to the antidumping duty order on PET film from Korea. Interested parties are invited to comment on these preliminary results.

DATES: Effective Date: May 10, 2011.

FOR FURTHER INFORMATION CONTACT: Tyler Weinhold or Robert James, AD/CVD Operations Office 7, Import Administration, International Trade Administration, U.S. Department of Commerce, 14th Street and Constitution Avenue, NW., Room 7866, Washington, DC 20230; telephone: (202) 482-1121 or (202) 482-0649, respectively.

Background

On June 5, 1991, the Department published the antidumping duty order and amended final determination of sales at less than fair value (LTFV) on PET film from Korea. See Antidumping Duty Order and Amendment to Final Determination of Sales at Less Than Fair Value: Polyethylene Terephthalate Film, Sheet, and Strip From the Republic of Korea, 56 FR 25669 (June 5, 1991). On September 26, 1997, the Department published the notice of final court decision and amended final determination on PET film from Korea. See Polyethylene Terephthalate Film, Sheet, and Strip From the Republic of Korea; Notice of Final Court Decision and Amended Final Determination of Antidumping Duty Investigation, 62 FR 50557 (September 26, 1997) (Antidumping Duty Investigation Amended Final). Based on the Department's redetermination on remand in Antidumping Duty Investigation Amended Final, Cheil Synthetics, Inc. (Cheil) was found to have been dumping at a margin of 36.33 percent.

On July 5, 1996, the Department revoked the antidumping duty order on PET film from Korea with respect to Cheil because Cheil had not sold the subject merchandise at LTFV for at least three consecutive periods of review. See Polyethylene Terephthalate Film Sheet and Strip from the Republic of Korea; Final Results of Antidumping Duty Administrative Reviews and Notice of Revocation in Part, 61 FR 35177 (July 5, 1996). Subsequently, prior to the first sunset review, the Department published the final results of a changed circumstances review in which it found that Saehan Industries, Inc., (Saehan) was the successor-in-interest to Cheil. See Polyethylene Terephthalate Film, Sheet and Strip From the Republic of Korea; Final Results of Changed Circumstances Antidumping Duty Administrative Review, 63 FR 3703 (January 26, 1998).

The Department conducted another changed circumstances review in May 2000 in which it determined that Toray Saehan was the successor-in-interest to Saehan (which, as explained above, was the successor-in-interest to Cheil). See Polyethylene Terephthalate Film, Sheet and Strip From the Republic of Korea, Final Results of Changed Circumstances Antidumping Duty Administrative Review, 65 FR 34661 (May 31, 2000) (2000 Changed Circumstances Review).

On December 21, 2010, TAMK filed a request for a changed circumstances review of the antidumping duty order on PET film from Korea. TAMK claims it is the successor-in-interest to Toray Saehan in accordance with section 751(b) of the Act and 19 CFR 351.216, and provided documentation supporting its assertion.

On February 4, 2011, the Department issued a questionnaire to TAMK seeking additional information related to its request for a changed circumstances review. On March 1, 2011, TAMK filed its response to the questionnaire. In response to TAMK's request, the Department is initiating a changed circumstances review of this order.

Scope of the Order

Imports covered by the order are shipments of all gauges of raw, pretreated, or primed polyethylene terephthalate film, sheet, and strip, whether extruded or coextruded. The films excluded from this review are metallized films and other finished films that have had at least one of their surfaces modified by the application of a performance-enhancing resinous or inorganic layer more than 0.00001 inches (0.254 micrometers) thick.

Polyethylene terephthalate film, sheet, and strip is currently classifiable under the Harmonized Tariff Schedule of the United States (HTSUS) subheading 3920.62.00. The HTSUS subheading is provided for convenience and for customs purposes. The written description remains dispositive as to the scope of the product coverage.

Initiation of Antidumping Duty Changed Circumstances Review

Pursuant to section 751(b)(1) of the Act, the Department will conduct a changed circumstances review upon receipt of a request from an interested party or receipt of information concerning an antidumping duty order which shows changed circumstances sufficient to warrant a review of the order. On December 21, 2010, TAMK submitted its request for a changed circumstances review claiming that it is the successor-in-interest to Toray Saehan. In its submission, TAMK explains that on May 3, 2010, it changed its name from Toray Saehan to TAMK. See TAMK's submission, dated December 21, 2010 at 2 and Exhibits 1 and 2.

No other interested parties commented on TAMK's submission. Based on the information submitted by TAMK on December 21, 2010, and on March 1, 2011, the Department has determined that changed circumstances sufficient to warrant a review exist. See 19 CFR 351.216(d). The Department also finds that expedited action is warranted in accordance with 19 CFR 351.221(c)(3)(ii), and therefore we are concurrently publishing this notice of initiation and preliminary results for this changed circumstances review. See Ball Bearings and Parts Thereof from Japan: Initiation and Preliminary Results of Changed-Circumstances Review, 71 FR 14679 (March 23, 2006).

Preliminary Results

In antidumping duty changed circumstances reviews involving a successor-in-interest determination, the Department typically examines several factors including, but not limited to: (1) Management; (2) production facilities; (3) supplier relationships; and (4) customer base. See Brass Sheet and Strip from Canada: Final Results of Antidumping Duty Administrative Review, 57 FR 20460, 20462 (May 13, 1992) and Certain Cut-to-Length Carbon Steel Plate from Romania: Initiation and Preliminary Results of Changed Circumstances Antidumping Duty Administrative Review, 70 FR 22847 (May 3, 2005) (Plate from Romania), unchanged in Notice of Final Results of Antidumping Duty Changed Circumstances Review: Certain Cut-to-Length Carbon Steel Plate from Romania 70 FR 35624 (June 21, 2005). While no single factor or combination of factors will necessarily be dispositive, the Department generally will consider the new company to be the successor to the predecessor if the resulting operations are essentially the same as those of the predecessor company. See, e.g., Industrial Phosphoric Acid from Israel: Final Results of Antidumping Duty Changed Circumstances Review, 59 FR 6944, 6945 (February 14, 1994), and Plate from Romania. Thus, if the Department determines the new company operates as the same business entity as the predecessor company with respect to the production and sale of the subject merchandise, the Department may afford the new company the same treatment for antidumping purposes as its predecessor. See, e.g., Fresh and Chilled Atlantic Salmon from Norway: Final Results of Changed Circumstances Antidumping Duty Administrative Review, 64 FR 9979, 9980 (March 1, 1999).

In accordance with 19 CFR 351.221(c)(3)(i), we preliminarily determine that TAMK is the successor-in-interest to Toray Saehan. In its submission, TAMK provides documentation showing the transition from Toray Saehan to TAMK resulted in little or no change in management, production facilities, supplier relationships, or customer base.

In its initial submission, dated December 21, 2010, TAMK states that the change in name from Toray Saehan to TAMK is the result of an internal corporate decision for marketing and strategy purposes. TAMK further states that: (1) There was no change in the management of the company; (2) there were no changes in the suppliers of raw materials to the company; (3) there were no changes to the location where TAMK produces PET film, and; (4) the customer lists for Toray Saehan and TAMK show consistency in customers served.

TAMK further explains that the Department recognized that Toray Saehan was the successor-in-interest to Saehan, and by extension, to Cheil. See 2000 Changed Circumstances Review.

In performing our analysis, we first examined organization charts showing the management structure of TAMK and Toray Saehan prior to and after the name change. See TAMK submission, dated March 1, 2011 (Attachment 4-5). We then examined the management personnel of TAMK and Toray Saehan. TAMK submitted exhibits showing that the management of TAMK is substantially similar to that of Toray Saehan. See TAMK submission, dated March 1, 2011 (Attachment 1-3). As such, TAMK's management structure closely resembles that of Toray Saehan. See id.

Second, we reviewed production data of subject merchandise from production facilities of both TAMK and Toray Saehan covering periods prior to and following the change in name. TAMK demonstrated that TAMK maintained similar production capacity at the same production facilities as Toray Saehan. See TAMK submission, dated March 1, 2011 (Attachment 6-7).

Third, we examined the lists of major input suppliers to TAMK for the production of subject merchandise prior to and after the change in name. A comparison shows that the two lists are identical. See TAMK submission, dated December 21, 2010 (Attachment D).

Fourth, we reviewed the customer lists for TAMK's sales of subject merchandise prior to and following the change in name. A comparison of these two customer lists, both in the home market and in the United States, shows they are substantially unchanged. See TAMK submission, dated December 21, 2010 (Attachment E).

For the reasons described above, we preliminarily find that TAMK is the successor-in-interest to Toray Saehan in accordance with 19 CFR 351.221(c)(3)(i). If this preliminary determination is sustained in our final results, TAMK will be entitled to Toray Saehan's treatment under the antidumping duty order (i.e., it will inherit Toray Saehan's revocation from the order). Should our final results remain the same as these preliminary results, effective the date of publication of the final results we will instruct U.S. Customs and Border Protection to liquidate entries of merchandise produced or exported by TAMK without regard to antidumping duties, as TAMK's predecessor, Toray Saehan, is revoked from the order.

Public Comment

Any interested party may request a hearing within 15 days of publication of this notice. See 19 CFR 351.310(c). Any hearing, if requested, will be held 25 days after the date of publication of this notice or the first working day thereafter, unless the Secretary alters the date. See 19 CFR 351.310(d)(1). Interested parties may submit case briefs not later than 15 days after the date of publication of this notice. See 19 CFR 351.309 (c)(ii). Rebuttal briefs, which must be limited to issues raised in case briefs, may be filed not later than 20 days after the date of publication of this notice. Parties who submit case briefs or rebuttal briefs in this changed circumstances review are requested to submit with each argument: (1) A statement of the issue; and (2) a brief summary of the argument. Consistent with 19 CFR 351.216(e), we will issue the final results of this changed-circumstances review no later than 270 days after the date on which this review was initiated, or within 45 days of publication of these preliminary results if all parties agree to our preliminary finding.

During the course of this antidumping duty changed circumstances review, the cash deposit requirements for the subject merchandise exported and manufactured by TAMK will continue to be the all-others rate established in the investigation. See Antidumping Duty Investigation Amended Final, 62 FR at 50558.

This notice of initiation and preliminary results is published in accordance with sections 751(b)(1) and 777(i)(1) of the Act, and 19 CFR 351.216 and 19 CFR 351.221(c)(3).

Dated: April 22, 2011.
Paul Piquado,
Acting Deputy Assistant Secretary for Import Administration.

[FR Doc. 2011-11389 Filed 5-9-11; 8:45 am]

BILLING CODE 3510-DS-P